DEPARTMENT OF LABOR

Employment and Training Administration

[TA-W-60,541]

Siemens VDO Automotive Corporation, Formerly Known as American Electronic Corporation, a Subsidiary of Siemens AG, Sensors Division—Elkhart Facility, Now Known as Continental AG, Elkhart, Indiana; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on December 19, 2006, applicable to workers of Siemens VDO Automotive Corporation, formerly known as American Electronic Corp., a subsidiary of Siemens AG, Sensors Div.—Elkhart Facility, Elkhart, Indiana. The notice was published in the Federal Register on January 16, 2007 (72 FR 1770).

At the request of International Brotherhood of Teamsters (IBT), Local 364, the Department reviewed the certification for workers of the subject firm. The workers were engaged in the production of electronic sensor devices for automobiles.

New information shows that following a change in ownership, Siemens VDO Automotive Corporation, formerly known as American Electronic Corporation, a subsidiary of Siemens AG, Sensors Division—Elkhart Facility, is now known as Continental AG.

Workers separated from employment at the subject firm had their wages reported under a separate unemployment insurance (UI) tax account for Continental AG.

Accordingly, the Department is amending this certification to properly reflect this matter.

The intent of the Department's certification is to include all workers of Siemens VDO Automotive Corporation, formerly known as American Electronic Corporation, a subsidiary of Siemens AG, Sensors Division—Elkhart Facility, now known as Continental AG, who were adversely affected by a shift in production of electronic sensor devices for automobiles to Mexico.

The amended notice applicable to TA-W-60,541 is hereby issued as follows:

“All workers of Siemens VDO Automotive Corporation, formerly known as American Electronics Corporation, a subsidiary of Siemens AG, Sensors Division—Elkhart Facility, now known as Continental AG, Elkhart, Indiana, who became totally or partially separated from employment on or after December 4, 2005, through December 19, 2008, are eligible to apply for adjustment assistance under Section 223 of the Trade Act of 1974, and are also eligible to apply for alternative trade adjustment assistance under Section 246 of the Trade Act of 1974.”

Signed at Washington, DC, this 20th day of December 2007.
Linda G. Poole,
Certifying Officer, Division of Trade Adjustment Assistance.

[FR Doc. E7-25364 Filed 12-28-07; 8:45 am]

BILLING CODE 4510-FN-P